DEPARTMENT OF TRANSPORTATION

Federal Aviation Administration

14 CFR Part 39

[Docket No. FAA-2008-0841; Directorate Identifier 2008-NE-23-AD; Amendment 39-15720; AD 2008-22-23]

RIN 2120-AA64

Airworthiness Directives; Thielert Aircraft Engines GmbH (TAE) Model TAE 125-02-99 Reciprocating Engines

AGENCY: Federal Aviation Administration (FAA), Department of Transportation (DOT).

ACTION: Final rule; request for comments.

SUMMARY: We are adopting a new airworthiness directive (AD) for the product listed above. This AD results from mandatory continuing airworthiness information (MCAI) issued by an aviation authority of another country to identify and correct an unsafe condition on an aviation product. The MCAI describes the unsafe condition as:

In-flight engine shutdown incidents have been reported on aircraft equipped with TAE 125-02-99 engines. Preliminary investigations showed that it was mainly the result of cracked disc springs in the clutch.

This AD requires actions that are intended to address the unsafe condition described in the MCAI, which could result in engine in-flight shutdown and the subsequent loss of control of the airplane.

DATES: This AD becomes November 19, 2008. The Director of the Federal Register approved the incorporation by reference of TAE Service Bulletin TM TAE 125-1006 P1, Revision 1, dated May 30, 2008, listed in the AD as of November 19, 2008.

We must receive comments on this AD by December 4, 2008.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Jason Yang, Aerospace Engineer, Engine Certification Office, FAA, Engine and Propeller Directorate, 12 New England Executive Park, Burlington, MA 01803; e-mail: jason.yang@faa.gov; telephone (781) 238-7747; fax (781) 238-7199.

SUPPLEMENTARY INFORMATION:

Discussion

The European Aviation Safety Agency (EASA), which is the Technical Agent for the Member States of the European Community, has issued EASA Airworthiness Directive 2008-0106-E, dated May 30, 2008 (referred to after this as “the MCAI”), to correct an unsafe condition for the specified products. The MCAI states:

In-flight engine shutdown incidents have been reported on aircraft equipped with TAE 125-02-99 engines. Preliminary investigations showed that it was mainly the result of cracked disc springs in the clutch. This condition, if not corrected, could result in further cases of engine in-flight shutdown and the consequent loss of control of the aircraft.

To address this unsafe condition, AD 2008-0100-E was published to mandate repetitive inspections until a new clutch P/N 05-7211-K006001 is installed.

Since that publication, data collected from the performed inspections revealed that only the clutch assembly P/N 05-7211-K000304 was subject to failure.

For the reasons stated above, this EASA AD supersedes AD 2008-0100-E and requires the removal of the affected clutch assemblies P/N 05-7211-K000304 on all TAE 125-02-99 engines and their replacement by new clutches of an improved design.

You may obtain further information by examining the MCAI in the AD docket.

Relevant Service Information

Thielert Aircraft Engines GmbH has issued Service Bulletin TM TAE 125-1006 P1, Revision 1, dated May 30, 2008. The actions described in this service information are intended to correct the unsafe condition identified in the MCAI.

FAA's Determination and Requirements of This AD

This product has been approved by the aviation authority of Germany, and is approved for operation in the United States. Pursuant to our bilateral agreement with Germany, they have notified us of the unsafe condition described in the MCAI and service information referenced above. We are issuing this AD because we evaluated all the information provided by Germany and determined the unsafe condition exists and is likely to exist or develop on other products of the same type design.

FAA's Determination of the Effective Date

An unsafe condition exists that requires the immediate adoption of this AD. The FAA has found that the risk to the flying public justifies waiving notice and comment prior to adoption of this rule because of the short time to comply with this rule. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0841; Directorate Identifier 2008-NE-23-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-22-23 Thielert Aircraft Engines GmbH: Amendment 39-15720.; Docket No. FAA-2008-0841; Directorate Identifier 2008-NE-23-AD.

Effective Date

(a) This airworthiness directive (AD) becomes effective November 19, 2008.

Affected ADs

(b) None.

Applicability

(c) This AD applies to Thielert Aircraft Engines GmbH (TAE) model TAE 125-02-99 reciprocating engines with clutch, part number (P/N) 05-7211-K000304, installed. These engines are installed on, but not limited to, Cessna 172 and (Reims-built) F172 series (STC No. SA01303WI); and Diamond DA42 airplanes.

Reason

“(d) In-flight engine shutdown incidents have been reported on aircraft equipped with TAE 125-02-99 engines. Preliminary investigations showed that it was mainly the result of cracked disc springs in the clutch. This condition, if not corrected, could result in further cases of engine in-flight shutdown and the consequent loss of control of the aircraft.”

We are issuing this AD to prevent engine in-flight shutdown and the subsequent loss of control of the airplane.

Actions and Compliance

(e) Unless already done, do the following actions.

(1) For engines that have accumulated, on the effective date of this AD, less than 50 flight hours (FH) since installing clutch, P/N 05-7211-K000304: Upon the accumulation of 50 FH since installing clutch, P/N 05-7211-K000304, replace the clutch as specified in TAE SB TM TAE 125-1006 P1, Revision 1, dated May 30, 2008.

(2) For engines that have accumulated, on the effective date of this AD, 50 or more FH since installing clutch, P/N 05-7211-K000304: Before further flight, replace the clutch as specified in TAE SB TM TAE 125-1006 P1, Revision 1, dated May 30, 2008.

FAA AD Differences

(f) We have further clarified the corrective action by specifying the P/N of each affected clutch, and timing the compliance period from when the clutch was installed instead of when it was last inspected.

Other FAA AD Provisions

(g) The following provisions also apply to this AD:

(1) Alternative Methods of Compliance (AMOCs): The Manager, Engine Certification Office, FAA, has the authority to approve AMOCs for this AD, if requested using the procedures found in 14 CFR 39.19.

(2) Special Flight Permits: We are limiting special flight permits to one ferry flight to a maintenance station to replace the engine clutch. The maximum flight duration must not exceed 2 hours and is limited to VFR conditions.

Related Information

(h) Refer to MCAI EASA Airworthiness Directive 2008-0106-E, dated May 30, 2008, for related information.

(i) Contact Jason Yang, Aerospace Engineer, Engine Certification Office, FAA, Engine and Propeller Directorate, 12 New England Executive Park, Burlington, MA 01803; e-mail: jason.yang@faa.gov; telephone (781) 238-7747; fax (781) 238-7199, for more information about this AD.

Material Incorporated by Reference

(j) You must use Thielert Aircraft Engines GmbH Service Bulletin TM TAE 125-1006 P1, Revision 1, dated May 30, 2008, to do the actions required by this AD, unless the AD specifies otherwise.

(1) The Director of the Federal Register approved the incorporation by reference of this service information under 5 U.S.C. 552(a) and 1 CFR part 51.

(2) For service information identified in this AD, contact Thielert Aircraft Engines GmbH, Platanenstrasse 14 D-09350, Lichtenstein, Germany, telephone: +49-37204-696-0; fax: +49-37204-696-55; e-mail: info@centurion-engines.com.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on October 23, 2008.
Peter A. White,
Assistant Manager, Engine and Propeller Directorate, Aircraft Certification Service.

[FR Doc. E8-25892 Filed 11-3-08; 8:45 am]

BILLING CODE 4910-13-P